NUCLEAR REGULATORY COMMISSION

[Docket No. 72-16]

Notice of Issuance of Amendment to Materials License SNM 2507 Virginia Electric and Power Company North Anna Independent Spent Fuel Storage Installation

AGENCY: Nuclear Regulatory Commission.

ACTION: Notice of issuance of license amendment.

FOR FURTHER INFORMATION CONTACT: Jill S. Caverly, Project Manager, Spent Fuel Project Office, Office of Nuclear Material Safety and Safeguards, U.S. Nuclear Regulatory Commission, Washington, DC 20555. Telephone: (301) 415-6699; Fax number: (301) 415-8555; E-mail: jsc1@nrc.gov.

SUPPLEMENTARY INFORMATION: The U.S. Nuclear Regulatory Commission (NRC or the Commission) has issued Amendment No. 3 to Materials License SNM-2507 held by Virginia Electric and Power Company (Dominion) for the receipt, possession, transfer, and storage of spent fuel at the North Anna Independent Spent Fuel Installation (ISFSI), located in Louisa County, Virginia. The amendment is effective as of the date of issuance.

By application dated September 15, 2004, Dominion requested to amend its ISFSI license to revise Technical Specifications (TS). The revisions change the reference location where the plant specific titles and TS titles are correlated and relocate the Quality Assurance Program facility staff qualification requirements. This amendment complies with the standards and requirements of the Atomic Energy Act of 1954, as amended (the Act), and the Commission's rules and regulations. The Commission has made appropriate findings as required by the Act and the Commission's rules and regulations in 10 CFR Chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified. Also in connection with this action, the Commission determined that the action could be classified as a Categorical Exemption under 10 CFR 51.22(c)(11).

Further Information

The NRC has prepared a Safety Evaluation Report (SER) that documents the information that was reviewed and NRC's conclusion. In accordance with 10 CFR 2.390 of NRC's “Rules of Practice,” final NRC records and documents regarding this proposed action including the amendment request dated September 15, 2004, and the SER are publically available in the records component of NRC's Agencywide Documents Access and Management System (ADAMS). These documents may be inspected at NRC's Public Electronic Reading Room on the Internet at http://www.nrc.gov/reading-rm/adams.html. These documents may also be viewed electronically on the public computers, located at the NRC Public Document Room (PDC), O1F21, One White Flint North, 11555 Rockville Pike, Rockville, MD 20852. The PDR reproduction contractor will copy document for a fee. Persons who do not have access to ADAMS or who encounter problems in accessing the documents located in ADAMS, should contact the NRC PDR Reference staff by telephone at 1-800-397-4209 or (301) 415-4737, or by e-mail to pdr@nrc.gov.

Dated at Rockville, Maryland, this 5th day of December 2005.
For the Nuclear Regulatory Commission.
Jill S. Caverly,
Project Manager, Licensing Section, Spent Fuel Project Office, Office of Nuclear Material Safety and Safeguards.

[FR Doc. E5-7389 Filed 12-14-05; 8:45 am]

BILLING CODE 7590-01-P